ENVIRONMENTAL PROTECTION AGENCY

[EPA HQ-OAR-2004-0016; FRL-9929-49-OEI]

Information Collection Request Submitted to OMB for Review and Approval; Comment Request; Part 71 Federal Operating Permit Program (Renewal)

AGENCY: Environmental Protection Agency (EPA).

ACTION: Notice.

SUMMARY: The Environmental Protection Agency (EPA) has submitted an information collection request (ICR), “Part 71 Federal Operating Permit Program (Renewal)” (EPA ICR No. 1713.11, OMB Control No. 2060.0336) to the Office of Management and Budget (OMB) for review and approval in accordance with the Paperwork Reduction Act (44 U.S.C. 3501 et seq.). This is a proposed extension of the ICR, which is currently approved through June 30, 2015. Public comments were previously requested via the Federal Register on February 10, 2015, during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 27, 2015.

ADDRESSES: Submit your comments, referencing Docket ID Number EPA-HQ-OAR-2004-0016, to (1) EPA online using https://www.regulations.gov (our preferred method), by email to a-and-r-docket@epa.gov, or by mail to: EPA Docket Center, Environmental Protection Agency, Mail Code 28221T, 1200 Pennsylvania Avenue NW., Washington, DC 20460, and (2) OMB via email to oira_submission@omb.eop.gov. Address comments to OMB Desk Officer for the EPA.

The EPA's policy is that all comments received will be included in the public docket without change including any personal information provided, unless the comment includes profanity, threats, information claimed to be Confidential Business Information or other information whose disclosure is restricted by statute.

FOR FURTHER INFORMATION CONTACT: Joanna W. Gmyr, Air Quality Policy Division, Office of Air Quality Planning and Standards, C504-05, U.S. Environmental Protection Agency, Research Triangle Park, NC; telephone number: (919) 541-9782; fax number: (919) 541-5509; email address: gmyr.joanna@epa.gov.

SUPPLEMENTARY INFORMATION: Supporting documents, which explain in detail the information that the EPA will be collecting, are available in the public docket for this ICR. The docket can be viewed online at http://www.regulations.gov or in person at the EPA Docket Center, William Jefferson Clinton West Building, Room 3334, 1301 Constitution Avenue NW., Washington, DC. The telephone number for the Docket Center is (202) 566-1744. For additional information about EPA's public docket, visit http://www.epa.gov/dockets.

Abstract: Title V of the Clean Air Act (Act) requires the EPA to operate a federal operating permits program in areas not subject to an approved state program. The EPA regulations setting forth the requirements for the federal (EPA) operating permit program are at 40 CFR part 71. The part 71 program is designed to be implemented primarily by the EPA in all areas where state and local agencies do not have jurisdiction, such as Indian country and offshore, beyond states' seaward boundaries. The EPA may also delegate authority to implement the part 71 program on its behalf to a state, local or tribal agency, if the agency requests delegation and makes certain showings regarding its authority and ability to implement the program. One such delegate agency for the part 71 program exists at present.

In order to receive an operating permit for a major or other source subject to the permitting program, the applicant must conduct the necessary research, perform the appropriate analyses, and prepare the permit application with documentation to demonstrate that its facility meets all applicable statutory and regulatory requirements. Specific activities and requirements are listed and described in the Supporting Statement for the part 71 ICR.

Under part 71, the permitting authority (the EPA or a delegate agency) reviews permit applications, provides for public review of proposed permits, issues permits based on consideration of all technical factors and public input, and reviews information submittals required of sources during the term of the permit. Under part 71, the EPA reviews certain actions and performs oversight of any delegate agency, consistent with the terms of a delegation agreement. Consequently, information prepared and submitted by sources is essential for sources to receive permits, and for federal and tribal permitting agencies to adequately review the permit applications and issue the permits, oversee implementation of the permits, and properly administer and manage the program.

Information that is collected is handled according to EPA's policies set forth in title 40, chapter 1, part 2, subpart B—Confidentiality of Business Information (see 40 CFR part 2). See also section 114(c) of the Act.

Form Numbers: The forms are 5900-01, 5900-02, 5900-03, 5900-04, 5900-05, 5900-06, 5900-79, 5900-80, 5900-81, 5900-82, 5900-83, 5900-84, 5900-85 and 5900-86.

Respondents/affected entities: Industrial plants (sources) and tribal permitting authorities.

Respondent's obligation to respond: Mandatory (see 40 CFR part 71).

Estimated number of respondents: 99 (total).

Frequency of response: On occasion.

Total estimated burden: 25,937 hours (per year). Burden is defined at 5 CFR 1320.03(b).

Total estimated cost: $1,689,347 (per year). There are no annualized capital or operation & maintenance costs.

Changes in the Estimates: There is a decrease of 11,692 hours in the total estimated respondent burden compared with the ICR currently approved by OMB. This decrease is due to updated estimates of the number of sources and permits subject to the part 71 program, rather than any new federal mandates. The changes in estimates are due to shrinkage from the transfer of 36 permits from the part 71 to the part 70 program and due to a previous overestimate of the number of sources that would get permits by the end of the previous ICR (which is the start of the current ICR).

Courtney Kerwin,
Acting Director, Collection Strategies Division.

[FR Doc. 2015-15672 Filed 6-25-15; 8:45 am]

BILLING CODE 6560-50-P